GENERAL SERVICES ADMINISTRATION

[Notice-PBS-2018-06; Docket No. 2018-0002; Sequence No. 18]

Notice of Availability and Announcement of Meeting for the Draft Environmental Impact Statement for the Otay Mesa Port of Entry, San Diego, California

AGENCY: Public Building Service (PBS), General Services Administration (GSA).

ACTION: Notice of availability; announcement of meeting.

SUMMARY: This notice announces the availability of the Draft Environmental Impact Statement (DEIS), which examines the potential impacts of a proposal by the General Services Administration (GSA) to modernize and expand the existing Otay Mesa Land Port of Entry (LPOE) located at the United States (U.S.)-Mexico border in the City of San Diego community of Otay Mesa, in San Diego County, California. The DEIS describes the reason the project is being proposed, the alternatives being considered, the potential impacts of each of the alternatives on the existing environment, and avoidance, minimization, and/or mitigation measures.

As the lead agency in this undertaking, GSA is acting on behalf of its major tenant at this facility, the Department of Homeland Security's (DHS) Customs and Border Protection (CBP).

DATES: A public meeting for the DEIS will be held on Thursday, August 9th, 2018, from 4:00 p.m. to 7:00 p.m., Pacific Time (PT). Interested parties are encouraged to attend and provide written comments on the DEIS. The comment period for the DEIS ends Friday, August 31, 2018. After this date, GSA will prepare the Final EIS.

ADDRESSES: The meeting will be held at the Holiday Inn Express and Suites San Diego, 2296 Niels Bohr Court, San Diego, CA, 92154, telephone 619-710-0900.

Further information, including an electronic copy of the DEIS, may be found online on the following website: https://www.gsa.gov/about-us/regions/welcome-to-the-pacific-rim-region-9/land-ports-of-entry/otay-mesa-land-port-of-entry. Questions or comments concerning the DEIS should be directed to: Osmahn Kadri, NEPA Project Manager, 50 United Nations Plaza, 3345, Mailbox #9, San Francisco, CA, 94102, or via email to osmahn.kadri@gsa.gov.

FOR FURTHER INFORMATION CONTACT: Osmahn A. Kadri, NEPA Project Manager, GSA, at 415-522-3617. Please also call this number if special assistance is needed to attend and participate in the public meeting.

SUPPLEMENTARY INFORMATION:

Background

The Otay Mesa LPOE is located approximately 17 miles southeast of downtown San Diego, just north of the U.S. border and the Baja California Peninsula of Mexico. When it was constructed in 1983, its primary purpose was to divert growing commercial truck traffic from the increasingly busy San Ysidro LPOE to the west, at the southern terminus of Interstate 5. The Otay Mesa LPOE processes commercial and privately-owned vehicle and pedestrian traffic. Since the LPOE opened, vehicle and pedestrian traffic and the population and general development in the area have grown. It is now one of the ten busiest land ports in the country and is the busiest commercial port on the California-Mexico border, processing the second highest volume of trucks, and third highest dollar volume of trade among all U.S.-Mexico LPOEs. Ever-increasing traffic loads and new security initiatives require increased capacity and new inspection technology to be installed and implemented at existing facilities.

The Project's purpose is to improve the efficiency, effectiveness, security and safety at the existing Otay Mesa LPOE. The Project's need, or the need to which the GSA is responding, is to increase the LPOE's capacity due to increased demand, and to address public and employee safety and border security concerns.

The DEIS considers two “action” alternatives and one “no action” alternative. The Preferred Alternative would include the development of an approximately 10-acre GSA-owned plot of land to the immediate east of the existing commercial import lot. The new lot would be used to construct commercial inspection buildings and additional commercial import lanes. It would also include improvements to existing pedestrian lanes and personal vehicle inspection lanes; relocation of personnel currently housed in the Pedestrian, Commercial Import and Commercial Export buildings; renovation of existing facilities throughout the Otay Mesa LPOE; and demolition of facilities that would no longer be needed would also occur. New construction would include commercial import and exit booths, six additional pedestrian lanes in the Pedestrian Building, a Commercial Annex Building (CAB), a return-to-Mexico lane for commercial traffic, a pedestrian ramp and parking areas for the new commercial lot. Building renovations would include the installation of energy conservation measures and water conservation measures across the Otay Mesa LPOE, the correction of deficiencies throughout existing facilities (e.g., updating security systems, updating HVAC systems, improving lighting and repaving old asphalt surfaces), and refurbishing the interiors of the pedestrian, commercial import and commercial export buildings including repainting and replacing flooring.

The Reduced Build Alternative would include many of the same activities as under the Preferred Alternative; however, the overall activity level would be lower. Notably, no new construction would occur on the 10-acre GSA-owned plot of land, and the Commercial Annex Building would not be constructed; instead, the plot of land would be paved and used as additional space for the commercial vehicle inspection booths which would be reconfigured to increase traffic flow. Renovation of existing facilities would still occur, but activities would be limited to updating security and HVAC systems and repainting interiors.

The No Action alternative assumes that modernization and expansion of the existing LPOE would not occur and that a new facility would not be constructed adjacent to the existing LPOE. The LPOE would continue to operate under current conditions.

Public Meeting

The meeting will be conducted in an open house format, where project information will be presented and distributed. Comments must be received by August 31, 2018, and emailed to osmahn.kadri@gsa.gov or sent to the address listed above.

Dated: August 2, 2018.
Matthew Jear,
Director, Portfolio Management Division, Pacific Rim Region, Public Buildings Service.

[FR Doc. 2018-17211 Filed 8-9-18; 8:45 am]

BILLING CODE 6820-YF-P